DEPARTMENT OF JUSTICE

Antitrust Division

Notice Pursuant to the National Cooperative Research and Production Act of 1993—Resilient Infrastructure + Secure Energy Consortium

Notice is hereby given that, on October 11, 2022, pursuant to section 6(a) of the National Cooperative Research and Production Act of 1993, 15 U.S.C. 4301 et seq. (“the Act”), Resilient Infrastructure + Secure Energy Consortium (“RISE”) has filed written notifications simultaneously with the Attorney General and the Federal Trade Commission disclosing changes in its membership. The notifications were filed for the purpose of extending the Act's provisions limiting the recovery of antitrust plaintiffs to actual damages under specified circumstances. Specifically, Advanced Energy Engineering LLC, Sterling Heights, MI; Advano, New Orleans, LA; Amphetamobile LLC, Upper Darby, PA; AnyFuel Engines, Inc., Henderson, NV; Arbnco, Inc., Plymouth, MI; Critical Technologies, Inc., Utica, NY; Criticality Sciences, Inc., Alexandria, VA; Ecotronics Ventures LLC, New Market, MD; Elistair, Stoughton, MA; Flux Marine, Ltd., Bristol, RI; Kyma Technologies, Inc., Raleigh, NC; Pandata Tech, Inc., Houston, TX; SGSD Partners LLC dba Elevate Government Solutions, Washington, DC; Terida LLC, Pinehurst, NC; University of Bristol, Bristol, GBR; and UTSI International Corporation, Friendswood, TX, have been added as parties to this venture.

No other changes have been made in either the membership or planned activity of the group research project. Membership in this group research project remains open, and RISE intends to file additional written notifications disclosing all changes in membership.

On July 2, 2021, RISE filed its original notification pursuant to section 6(a) of the Act. The Department of Justice published a notice in the Federal Register pursuant to section 6(b) of the Act on August 23, 2021 (87 FR 47155).

The last notification was filed with the Department on July 26, 2022. A notice was published in the Federal Register pursuant to section 6(b) of the Act on August 30, 2022 (87 FR 53005).

Suzanne Morris,
Deputy Director, Civil Enforcement Operations, Antitrust Division.

[FR Doc. 2022-25455 Filed 11-22-22; 8:45 am]

BILLING CODE P